DEPARTMENT OF LABOR

Employment and Training Administration

[TA-W-55,395, TA-W-55,395A, and TA-W-55,395B]

Dana Undies, Blakely, GA; Arlington, GA; Colquitt, GA; Determinations Regarding Eligibility To Apply for Worker Adjustment Assistance and Alternative Trade Adjustment Assistance

In accordance with section 223 of the Trade Act of 1974 (19 U.S.C. 2273), as amended, the Department of Labor herein presents the results of its investigation regarding certification of eligibility to apply for worker adjustment assistance.

The investigation was initiated on August 6, 2004, in response to a petition filed on behalf of workers of Dana Undies, Blakely, Arlington, and Colquitt, Georgia. The workers at Blakely and Colquitt produced infants', toddlers', and boys' and girls' underwear. Workers at Arlington supported the plant in Blakely.

In order to make an affirmative determination and issue a certification of eligibility to apply for Trade Adjustment Assistance, the group eligibility requirements in either paragraph (a)(2)(A) or (a)(2)(B) of section 222 of the Trade Act must be met. It is determined in the case of the Blakely and Arlington facilities that the requirements of (a)(2)(A) of section 222 have been met.

The investigation revealed that sales, production and employment at the Blakely/Arlington facilities decreased from 2002 to 2003 and in January through July, 2004 compared with the same period of 2003.

The subject firm has increased its company imports of underwear from Thailand in 2004 impacting production and employment at the Blakely facility.

United States aggregate imports of infant's apparel increased absolutely and relative to shipments in 2003 compared with 2002. The import to consumption ratio was over 1,000 percent in 2003.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Furthermore, Pursuant to section 221 of the Trade Act of 1974, as amended, an investigation was initiated on August 6, 2004, in response to a worker petition filed on behalf of workers at Dana Undies, Colquitt, Georgia.

The investigation revealed that in the case of Dana Undies, Colquitt, Georgia, all workers were separated from the subject firm more than one year before the date of the petition. Section 223(b) of the Act specifies that no certification may apply to any worker whose last separation occurred more than one year before the date of the petition. Consequently, further investigation in this case would serve no purpose, and the investigation of the Colquitt facility has been terminated.

Conclusion

After careful review of the facts obtained in the investigation, I determine that increases of imports of articles like or directly competitive with underwear produced at Dana Undies, Blakely and Arlington, Georgia contributed importantly to the total or partial separation of workers and to the decline in sales or production at that firm or subdivision. In accordance with the provisions of the Act, I make the following certification:

“All workers of Dana Undies, Blakely, Georgia (TA-W-55,395), and Arlington, Georgia (TA-W-55,395A), who became totally or partially separated from employment on or after August 5, 2003 through two years from the date of certification are eligible to apply for adjustment assistance under section 223 of the Trade Act of 1974, and are also eligible to apply for alternative trade adjustment assistance under section 246 of the Trade Act of 1974.”

Furthermore, I determine that the investigation of workers of Dana Undies, Colquitt, Georgia (TA-W-55,395B) has been terminated for the aforementioned reasons.

Signed in Washington, DC, this 14th day of September 2004.
Richard Church,
Certifying Officer, Division of Trade Adjustment Assistance.

[FR Doc. E4-2338 Filed 9-22-04; 8:45 am]

BILLING CODE 4510-30-P